DEPARTMENT OF ENERGY

Federal Energy Regulatory Commission

Combined Notice of Filings #1

Take notice that the Commission received the following exempt wholesale generator filings:

Docket Numbers: EG16-52-000.

Applicants: South Plains Wind Energy II, LLC.

Description: Notice of Self-Certification of Exempt Wholesale Generator Status of South Plains Wind Energy II, LLC.

Filed Date: 2/8/16.

Accession Number: 20160208-5065.

Comments Due: 5 p.m. ET 2/29/16.

Take notice that the Commission received the following electric corporate filings:

Docket Numbers: EC16-68-000.

Applicants: Smith Creek Hydro, LLC.

Description: Application of Smith Creek Hydro, LLC for Authorization for Merger and Consolidation of Jurisdictional Facilities, Acquisition of an Existing Generation Facility and Request for Expedited Action.

Filed Date: 2/5/16.

Accession Number: 20160205-5234.

Comments Due: 5 p.m. ET 2/26/16.

Take notice that the Commission received the following electric rate filings:

Docket Numbers: ER16-208-002.

Applicants: Midcontinent Independent System Operator, Inc., ITC Midwest LLC, International Transmission Company, Michigan Electric Transmission Company, LLC.

Description: Compliance filing: 2016-02-08_ITC, ITCM, METC Att O Compliance Filing to be effective 1/1/2016.

Filed Date: 2/8/16.

Accession Number: 20160208-5070.

Comments Due: 5 p.m. ET 2/29/16.

Docket Numbers: ER16-903-000.

Applicants: Ohio Power Company, PJM Interconnection, L.L.C.

Description: Section 205(d) Rate Filing: AEP submits 47th Revised Service Agreement No. 1336 to be effective 1/8/2016.

Filed Date: 2/5/16.

Accession Number: 20160205-5206.

Comments Due: 5 p.m. ET 2/26/16.

Docket Numbers: ER16-904-000.

Applicants: Smith Creek Hydro, LLC.

Description: Baseline eTariff Filing: Application for Market Based Rate Authority to be effective 4/1/2016.

Filed Date: 2/5/16.

Accession Number: 20160205-5216.

Comments Due: 5 p.m. ET 2/26/16.

Docket Numbers: ER16-905-000.

Applicants: Biofuels Washington, LLC.

Description: Notice of Market Based Rate Tariff Cancellation of BioFuels Washington, LLC.

Filed Date: 2/5/16.

Accession Number: 20160205-5232.

Comments Due: 5 p.m. ET 2/26/16.

Docket Numbers: ER16-906-000.

Applicants: PJM Interconnection, L.L.C., American Transmission Systems, Incorporated.

Description: Section 205(d) Rate Filing: ATSI submits Amended Interconnection Agreement Nos. 3992, 3993, and 3994 to be effective 4/8/2016.

Filed Date: 2/8/16.

Accession Number: 20160208-5045.

Comments Due: 5 p.m. ET 2/29/16.

Docket Numbers: ER16-907-000.

Applicants: City Water, Light & Power-City of Springfield, IL.

Description: Annual Informational Attachment O filing of City Water, Light & Power-City of Springfield, IL.

Filed Date: 2/8/16.

Accession Number: 20160208-5073.

Comments Due: 5 p.m. ET 2/29/16.

Docket Numbers: ER16-908-000.

Applicants: NorthWestern Corporation.

Description: Section 205(d) Rate Filing: SA 775—Montana DOT Utilities Agreement—Emerson Jct-Manchester to be effective 4/9/2016.

Filed Date: 2/8/16.

Accession Number: 20160208-5075.

Comments Due: 5 p.m. ET 2/29/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 8, 2016.
Nathaniel J. Davis, Sr.,
Deputy Secretary.

[FR Doc. 2016-02922 Filed 2-11-16; 8:45 am]

BILLING CODE 6717-01-P